DEPARTMENT OF LABOR

Office of the Secretary

Submission for OMB Review: Comment Request

March 30, 2005.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by contacting Ira Mills on 202-693-4122 (this is not a toll-free number) or e-mail: mills-ira@dol.gov.

Comments should be sent to Office of Information and Regulatory Affairs, Attn: OMB Desk Officer for ETA, Office of Management and Budget, Room 10235, Washington, DC 20503 (202-395-7316), within 30 days from the data of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Extension.

Title: One-Stop Workforce Information Grant Plan and Annual Performance Report.

OMB Number: 1205-0417.

Affected Public: State Local or Tribal government; Federal Government.

Type of Response: Reporting.

Frequency: Annual.

Activity | Respondents | Responses per year | Total responses | Hours per response | Total burden hours
Annual Plan | 54 | 1 | 54 | 42 | 2,268
Customer Satisfaction | 54 | 1 | 54 | 292 | 15,768
Annual Report | 54 | 1 | 54 | 39 | 2,106
Respondents Burden | 54 | 1 | 54 | 204 | 11,016
Totals |  |  | 216 |  | 31,158

Total Annualized Capital/Startup Costs: $0.

Total Annual Costs (operating/maintaining systems or purchasing services): $0.

Description: The Department of Labor is requesting OMB approval to extend the collection of annual grant plan narratives and annual performance reports as requirements for receiving Workforce Information core products and services reimbursable grants.

Ira L. Mills,
Departmental Clearance Officer/Team Leader.

[FR Doc. 05-6923 Filed 4-6-05; 8:45 am]

BILLING CODE 4510-30-P